DEPARTMENT OF HEALTH AND HUMAN SERVICES

Office of the Secretary

Findings of Research Misconduct; Correction

AGENCY: Office of the Secretary, HHS

ACTION: Correction of notice.

SUMMARY: This document corrects errors that appeared in the notice published in the November 14, 2019, Federal Register entitled “Findings of Research Misconduct.”

DATES:

Correction Date: December 3, 2019.

Applicability Date: The correction notice is applicable for the Findings of Research Misconduct notice published on November 14, 2019.

FOR FURTHER INFORMATION CONTACT: Ms. Karen Gorirossi or Dr. Alexander Runko at 240-453-8800.

SUPPLEMENTARY INFORMATION:

I. Background

In FR Doc. 2019-24715 of November 14, 2019 (84 FR 61916-61917), there were errors involving incorrect grant numbers affecting the first paragraph of the Summary section and the second paragraph of the Supplementary Information section. The errors are identified and corrected in the Correction of Errors section below.

II. Correction of Errors

In FR Doc. 2019-24715 of November 14, 2019 (84 FR 61916-61917), make the following corrections:

1. On page 61916, first column, in FR Doc. 2019-24715, SUMMARY section, first paragraph, lines 20-21, and page 61916, Supplementary Information section, second paragraph, line 18, change “P30 ES003891-25” to “P30 ES003819-25.”

2. On page 61916, SUPPLEMENTARY INFORMATION section, second paragraph, lines 20-21, delete “NCI, NIH, grant R01 CA122737-01A2.”

Dated: November 25, 2019.
Elisabeth A. Handley,
Interim Director, Office of Research Integrity.

[FR Doc. 2019-26072 Filed 12-2-19; 8:45 am]

BILLING CODE 4150-31-P